DEPARTMENT OF THE INTERIOR

Bureau of Indian Affairs

Indian Gaming

AGENCY: Bureau of Indian Affairs, Interior.

ACTION: Notice of Tribal-State Class III Gaming Amendment Taking Effect.

SUMMARY: This publishes notice of an Amendment to the 1998 Class III Gaming Compacts between the State of Michigan and the Little Traverse Bay Bands of Odawa Indians and the Little River Band of Ottawa Indians taking effect.

EFFECTIVE DATE: April 21, 2008.

FOR FURTHER INFORMATION CONTACT: George T. Skibine, Director, Office of Indian Gaming, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands. This Amendment is entered into in connection with the settlement of pending litigation and thus presents a set of unique circumstances resulting in our decision to neither approve nor disapprove the Amendment within the 45-day statutory time frame.

Dated: March 25, 2008.
Carl J. Artman,
Assistant Secretary—Indian Affairs.

[FR Doc. E8-8494 Filed 4-18-08; 8:45 am]

BILLING CODE 4310-4N-P